DEPARTMENT OF EDUCATION

Charter Schools Program (CSP) Grants for Replication and Expansion of High-Quality Charter Schools

AGENCY: Office of Innovation and Improvement, Department of Education.

ACTION: Notice inviting applications for new awards for fiscal year (FY) 2010; extension of application deadline. CFDA Number 84.282M.

SUMMARY: On May 24, 2010, we published in the Federal Register (75 FR 28789) a notice inviting applications for new awards for FY 2010 for the Charter Schools Program Grants for Replication and Expansion of High-Quality Charter Schools. That notice specified that applications must be submitted by July 7, 2010. We are extending the deadline for the transmittal of applications to July 14, 2010 and the deadline for intergovernmental review to September 14, 2010.

SUPPLEMENTARY INFORMATION: This notice extends the deadline for transmittal of applications for the Charter Schools Program Grants for Replication and Expansion of High-Quality Charter Schools FY 2010 competition to July 14, 2010 and the deadline for intergovernmental review to September 14, 2010. We are taking this action to ensure applicants have sufficient time to consider the responses to Frequently Asked Questions recently posted on the Department's Web site. The revised dates are as follows:

Deadline for Transmittal of Applications: July 14, 2010.

Deadline for Intergovernmental Review: September 14, 2010.

FOR FURTHER INFORMATION CONTACT: Erin Pfeltz or Richard Payton, U.S. Department of Education, 400 Maryland Avenue, SW., room 4W255, Washington, DC 20202-5970 or by e-mail: erin.pfeltz@ed.gov or richard.payton@ed.gov.

If you use a telecommunications device for the deaf, call the Federal Relay Service, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 2, 2010.
James H. Shelton, III,
Assistant Deputy Secretary for Innovation and Improvement.

[FR Doc. 2010-16670 Filed 7-7-10; 8:45 am]

BILLING CODE 4000-01-P